DEPARTMENT OF THE INTERIOR

Bureau of Reclamation

[RR02800000, 18XR0680A1, RX.17868949.0000000]

Notice of Intent To Prepare a Draft Environmental Impact Statement, Revisions to the Coordinated Long-Term Operation of the Central Valley Project and State Water Project, and Related Facilities

AGENCY: Bureau of Reclamation, Interior.

ACTION: Notice of intent; request for comments.

SUMMARY: The Bureau of Reclamation (Reclamation) intends to prepare a programmatic environmental impact statement (EIS) for analyzing potential modifications to the continued long-term operation of the federal Central Valley Project (CVP), for its authorized purposes, in a coordinated manner with the State Water Project (SWP), for its authorized purposes. Reclamation proposes to evaluate alternatives that maximize water deliveries and optimize marketable power generation consistent with applicable laws, contractual obligations, and agreements; and to augment operational flexibility by addressing the status of listed species. Reclamation is seeking suggestions and information on the alternatives and topics to be addressed and any other important issues related to the proposed action.

DATES: Submit written comments on the scope of the EIS by February 1, 2018.

ADDRESSES: Send written comments to Katrina Harrison, Project Manager, Bureau of Reclamation, Bay-Delta Office, 801 I Street, Suite 140, Sacramento, CA 95814-2536; fax to (916) 414-2425; or email at kharrison@usbr.gov.

FOR FURTHER INFORMATION CONTACT: Katrina Harrison at (916) 414-2425; or email at kharrison@usbr.gov.

SUPPLEMENTARY INFORMATION:

I. Agencies Involved

Reclamation will request the following agencies participate as cooperating agencies for preparation of the EIS in accordance with the National Environmental Policy Act (NEPA), as amended: U.S. Fish and Wildlife Service (USFWS), National Marine Fisheries Service (NMFS), U.S. Army Corps of Engineers; Western Area Power Administration, and U.S. Environmental Protection Agency.

Reclamation has also identified Indian tribes and other Federal, State, and local agencies (e.g., public water agencies, power marketing agencies, power customers, etc.) as potential cooperating agencies, and Reclamation will invite them to participate as cooperating agencies.

II. Why We Are Taking This Action

The CVP is a major water source for agricultural, municipal and industrial (M&I), and fish and wildlife demands in California. State and Federal regulatory actions, federal trust responsibilities, and other agreements, have significantly reduced the water available for delivery south of the Sacramento-San Joaquin River Delta, in order, among other things, to protect water quality within the delta and prevent jeopardy and adverse modification of critical habitat of threatened and endangered species. This project will evaluate alternatives to restore, at least in part, water supply, in consideration of all of the authorized purposes of the CVP.

In this programmatic EIS, Reclamation will analyze potential modifications to the continued long-term operation of the CVP (proposed action), in a coordinated manner with the SWP, to achieve the following:

• Maximize water supply delivery, consistent with applicable law, contracts and agreements, considering new and/or modified storage and export facilities.

• Review and consider modifications to regulatory requirements, including existing Reasonable and Prudent Alternative actions identified in the Biological Opinions issued by the USFWS and NMFS in 2008 and 2009, respectively.

• Evaluate stressors on fish other than CVP and SWP operations, beneficial non-flow measures to decrease stressors, and habitat restoration and other beneficial measures for improving targeted fish populations.

• Evaluate potential changes in laws, regulations and infrastructure that may benefit power marketability.

Reclamation has decided to prepare an EIS. As an example for why NEPA is required related to CVP operation, in 2014, the Ninth Circuit Court of Appeals determined that the current, coordinated operation of the CVP and SWP under biological opinions issued by the USFWS and NMFS in 2008 and 2009, respectively, was a major Federal action that affected the quality of the human environment that required the preparation of an EIS. San Luis & Delta-Mendota Water Authority (SLDMWA) v. Jewell, 747 F.3d 581 (9th Cir. 2014); SLDMWA v. Locke, 776 F.3d 971 (9th Cir. 2014). This EIS is expected to be primarily programmatic in nature. It is anticipated that this current programmatic effort will be followed by tiered project-level NEPA analyses to implement various site specific projects or detailed programs that were generally described in the programmatic EIS.

III. Purpose and Need for Action

The need for the action is to increase operational flexibility, as further described in Section II above. The purpose of the action considered in this EIS is to continue the operation of the CVP in a coordinated manner with the SWP, for its authorized purposes, in a manner that enables Reclamation and California Department of Water Resources to maximize water deliveries and optimize marketable power generation consistent with applicable laws, contractual obligations, and agreements; and to augment operational flexibility by addressing the status of listed species.

IV. Project Area (Area of Analysis)

The project area includes the existing CVP and SWP Service Areas, proposed CVP Service Areas, and storage and export facilities (including potential modifications), within the Sacramento and San Joaquin watersheds (including external watersheds connected through facilities). The project area also includes potential improvements and developments of other water supply or power generation programs.

The CVP is Reclamation's largest federal reclamation project. Reclamation operates the CVP in coordination with the SWP, under the Coordinated Operation Agreement between the federal government and the State of California (authorized by Pub. L. 99-546). The CVP and SWP operate pursuant to water rights permits and licenses issued by the State Water Resources Control Board. The CVP and SWP water rights allow appropriation of water by directly using and/or diverting water to storage for later withdrawal and use, or use and re-diversion to storage further downstream for later consumptive use. Among the conditions of their water rights, are requirements of the projects to either bypass or withdraw water from storage and to help satisfy specific water quality, quantity and operations criteria in source rivers and within the Delta. The CVP and SWP are currently operated in accordance with the 2008 USFWS Biological Opinion and the 2009 NMFS Biological Opinion, both of which concluded that the coordinated long-term operation of the CVP and SWP, as proposed in Reclamation's 2008 Biological Assessment, was likely to jeopardize the continued existence of listed species and destroy or adversely modify designated critical habitat. Both Biological Opinions included Reasonable and Prudent Alternatives designed to allow the CVP and SWP to continue operating without causing jeopardy to listed species or destruction or adverse modification to designated critical habitat. Reclamation accepted and then began Project operations consistent with the USFWS and NMFS Reasonable and Prudent Alternatives.

V. Alternatives To Be Considered

As required by NEPA, the EIS will include and consider a proposed action and a reasonable range of alternatives, including a No Action Alternative. Reasonable alternatives to the proposed action may include a combination of:

• Operations in coordination with new or proposed facilities to increase water supply deliveries and marketable power generation:

○ Actions that increase storage capacity upstream of the Delta for the CVP

○ Actions that increase storage capacity south of the Delta

○ Actions that increase export capabilities through the Delta

○ Actions to generate additional water or that improve and optimize the utilization of water such as desalinization, water conservation, or water reuse

• Modified operations of the CVP and SWP with and without new or proposed facilities including possible requests to modify environmental and regulatory requirements, and sharing of water and responsibilities in the Delta

• Habitat restoration and ecosystem improvement projects intended to increase fish populations which would be factored into the regulatory process

• Modification to existing state and federal facilities to reduce impacts to listed species

The Final EIS will identify an agency-preferred alternative.

Alternatives could affect all or various facilities and/or operations of the CVP, and may also include actions that affect SWP and local project operations. Reclamation will engage with California Department of Water Resources and local stakeholders in developing the proposed action and reasonable alternatives. Reclamation will also consider reasonable alternatives identified through the scoping process.

The proposed EIS will address operations of the CVP and SWP, operations in coordination with new or proposed projects, and habitat restoration in the Project area, designed to increase operational flexibility, increase water supply for CVP authorized purposes, and/or increase power marketability.

VI. Indian Trust Assets and Environmental Justice

There are Indian Trust Asset issues and there may be environmental justice issues related to the Trinity River, as well as potential impacts within other areas.

VII. Statutory Authority

NEPA [42 U.S.C. 4321 et seq.] requires that Federal agencies conduct an environmental analysis of their proposed actions to determine if the actions may significantly affect the human environment. As required by NEPA, Reclamation will develop an EIS which will analyze the potential direct, indirect, and cumulative environmental effects that may result from the implementation of the proposed action and alternatives.

The Rivers and Harbors Act of August 26, 1937 (50 Stat. 844, as amended and supplemented) provides for operation of the CVP.

VIII. Request for Comments

The purposes of this notice are:

• To advise other agencies, CVP and SWP water users and power customers, affected tribes, and the public of our intention to gather information to support the preparation of an EIS;

• To obtain suggestions and information from other agencies, interested parties, and the public on the scope of alternatives and issues to be addressed in the EIS; and

• To identify important issues raised by the public related to the development and implementation of the proposed action.

Reclamation invites written comments from interested parties to ensure that the full range of alternatives and issues related to the development of the proposed action are identified. Comments during this stage of the scoping process will only be accepted in written form. Written comments may be submitted by mail, electronic mail, facsimile transmission or in person to the contact listed in the ADDRESSES section of this notice. Comments and participation in the scoping process are encouraged.

IX. Public Disclosure

Before including your address, phone number, email address or other personal identifying information in your comment, you should be aware that your entire comment—including your personal identifying information—may be made publicly available at any time. While you can ask us in your comment to withhold your personal identifying information from public review, we cannot guarantee that we will be able to do so.

X. How To Request Reasonable Accommodation

If special assistance is required, please contact Katrina Harrison at the address provided above or TDD 916-978-5608. Information regarding this proposed action is available in alternative formats upon request.

Dated: December 20, 2017.
David Murillo,
Regional Director, Mid-Pacific Region.

[FR Doc. 2017-28215 Filed 12-28-17; 8:45 am]

BILLING CODE 4332-90-P